DEPARTMENT OF COMMERCE

[Docket No. DOC-2025-0002]

Privacy Act of 1974; System of Records

AGENCY: Office of the Secretary, Department of Commerce.

ACTION: Notice of a new system of records.

SUMMARY: The Department of Commerce (Department or Commerce) is issuing this notice of its intent to establish a new system of records entitled “COMMERCE/DEPT-30, Public Affairs Records.” The purpose of soliciting this information is to enable the Department's Office of Public Affairs and the Department's operating units to establish and maintain contact with the media, members of civil society organizations, and the public, as well as circulate information to specific individuals or groups based on self-identified regional and policy interests. This system significantly expands the Department's ability to collect current data, historical data, interviews, and commentary, as well as digitize existing libraries of this data in a searchable format. The Department uses public affairs records (PA Records) for various purposes, including research, historical commentary, storm and disaster archives, and public affairs records documenting matters of significant public interest. The Department is committed to ensuring that any technology, including digitization of archival records, used to collect, use, retain, or disseminate information about individuals complies with the Constitution, Federal law, regulations, and policies.

DATES: In accordance with 5 U.S.C. 552a(e)(4) and (11), this notice will go into effect without further notice on April 14, 2025. All routine uses will go into effect on May 14, 2025, unless otherwise revised pursuant to comments received. The Department will publish any significant changes to the system of records or routine uses resulting from public comment.

ADDRESSES: You may submit comments, identified as pertaining to “COMMERCE/DEPT-30, Public Affairs Records” via the Federal Rulemaking Portal: http://www.regulations.gov. All submissions received must include the agency name and docket number for this Federal Register document. The general policy for comments and other submissions from members of the public is to make these submissions available for public viewing on the internet at http://www.regulations.gov as they are received without change, including any personal identifiers or contact information.

FOR FURTHER INFORMATION CONTACT: Dr. Brian E. Anderson, Privacy Act Officer, Office of Privacy and Open Government, privacyact@doc.gov or call: 202-482-8294.

SUPPLEMENTARY INFORMATION: The Department is creating a new system of records for PA Records, entitled “COMMERCE/DEPT-30, Public Affairs Records,” as part of its commitment to ensuring that collection, use, retention, or dissemination of information about individuals with any technology, including digitized archival records, complies with the Constitution, Federal law, regulations, and policies. The public affairs function involves exchanging information and communications between the Federal government and the public. This function consists of two main activities: Creating or distributing of official government information such as publications, speeches, agency histories, and educational materials. The Office of Public Affairs oversees the external affairs and communications functions, comprising Congressional Relations; Banking Relations; Press Relations; Internal Communications; External Outreach and Minority Affairs. Consistent with Office of Management and Budget Circular A-130, Managing Information as a Strategic Resource, this newly established system of records will be included in Commerce's inventory of records systems. In accordance with 5 U.S.C. 552a(r), Commerce has provided a report of this system of records to Congress and to the Office of Management and Budget.

SYSTEM NAME AND NUMBER:

Public Affairs Records, COMMERCE/DEPT-30.

SECURITY CLASSIFICATION:

Unclassified.

SYSTEM LOCATION:

Records are maintained by Department of Commerce, Office of Public Affairs, 1401 Constitution Ave. NW, Washington, DC 20230. The locations at which the system is maintained by Commerce bureaus and operating units are:

1. Bureau of Economic Analysis (BEA), 4600 Silver Hill Road, Washington, DC.

2. Bureau of Industry and Security (BIS), 14th and Constitution Avenue NW, Room 3876, Washington, DC 20230.

3. U.S. Census Bureau (CENSUS), 4600 Silver Hill Rd., Hillcrest Heights, MD 20746.

4. Economic Development Agency (EDA), 1401 Constitution Ave. NW, Suite 71014, Washington, DC 20230.

5. Office of the Under Secretary for Economic Affairs (OUS/EA), 1401 Constitution Ave. NW, Washington, DC 20230.

6. International Trade Administration (ITA), 1401 Constitution Ave. NW, Mail Stop 3421, Washington, DC 20230.

7. Minority Business Development Agency (MBDA), 1401 Constitution Ave. NW, Washington, DC 20230.

8. National Institute of Standards and Technology (NIST), 100 Bureau Drive, Gaithersburg, MD 20899.

9. National Oceanic and Atmospheric Administration (NOAA),

10. National Telecommunications and Information Administration (NTIA), 1401 Constitution Avenue NW, Room 4897, Washington, DC 20230.

11. U.S. Patent and Trademark Office (USPTO), 600 Dulany St., Alexandria, VA 22314.

12. Office of the Secretary (OS), 1401 Constitution Ave. NW, Washington, DC 20230.

SYSTEM MANAGER(S):

Commerce, Office of Public Affairs, Meghan Burris, Director of Public Affairs, publicaffairs@doc.gov, 1401 Constitution Ave. NW, Washington, DC 20230. The system managers for the Department bureaus and operating units' points of contact are:

1. BEA, Public Affairs Officer, Jeannine Aversa, 202-606-2649, Jeannine.aversa@bea.gov.

2. BIS, Office of Congressional and Public Affairs Office, ocpa@bis.doc.gov.

3. CENSUS, Office of Public Affairs, or Public Information Office (PIO), 301-763-3030, pio@census.gov.

4. EDA, Office of Public Affairs, publicaffairs@doc.gov, 202-482-4085, www.eda.gov.

5. OUS/EA, Office of Public Affairs, publicaffairs@doc.gov, 202-482-4085.

6. ITA, Office of Public Affairs, 202-482-3809, publicaffairs@trade.gov.

7. MBDA, Public Affairs Officer, Antavia Grimsley, 202-482-6272, MBDAPublicAffairs@mbda.gov.

8. NIST, Public Affairs Office, Jennifer Huergo, 301-975-6343, Jennifer.huergo@nist.gov.

9. NOAA, Public Affairs Specialist, Jasmine Blackwell, 202-482-6090, jasmine.blackwell@noaa.gov.

10. NTIA, Office of Public Affairs (OPA), Stephen Yusko, Director (Acting), 202-482-7002, press@ntia.gov.

11. USPTO, Office of the Chief Communications Officer. Mandy Kraft, Deputy Press Secretary, 571-272-8400, press@uspto.gov.

12. OS, Office of Public Affairs, Meghan Burris, Director of Public Affairs, publicaffairs@doc.gov.

AUTHORITY FOR MAINTENANCE OF THE SYSTEM:

5 U.S.C. 301 (Departmental Regulations); 44 U.S.C. 2912 (Preservation of Electronic Messages and Other Records).

PURPOSE(S) OF THE SYSTEM:

The Department of Commerce may use Public Affairs Records for various purposes, including archival references, Central Library documentation, historical research, agency operations, storm and disaster documentation, and documentation of commentary, interviews, and references of matters of significant public interest. By nature, matters that arise to the level of public affairs documentation and essential interactions between the Federal and the public and the information that the Department presents to the public about government activities for the preservation, reference, and retrieval.

CATEGORIES OF INDIVIDUALS COVERED BY THE SYSTEM:

a. Current and former employees of the Department and other people whose association with the Department relates to the use of PA records. The names of individuals and the files in their names may be: (1) received pursuant to employment; or (2) submitted by the employee for access or use to files within the system in the conduct of assigned duties involving matters of public interest;

b. Agency, partners, individuals, including members of the public, who are identified while assisting the agency or commenting on matters of public interest, dignitaries, or experts in a field, those close to disaster relief efforts, storm tracking, and law enforcement activities. Members of the public could also include fishing vessel owners and occupants (made a comment or had a picture etc.);

c. Media representatives who request interviews with the Office of the Secretary and/or Department principals;

d. individuals who request information from a press officer concerning an issue(s) or information about the Department and its policies;

e. individuals who are on the mailing list for the Secretary's speeches;

f. individuals who invite the Secretary or Department principals to accept a speaking engagement or attend a function;

g. representatives of nongovernmental organizations throughout the United States;

h. state and local government officials; and

i. Department employees who have asked the Office of Public Affairs or the public affairs team within their respective operating unit to place articles about their achievements in their hometown newspapers.

CATEGORIES OF RECORDS IN THE SYSTEM:

This system is a comprehensive repository, contains contact information for individuals who are involved in the operations of the Office Public Affairs and the offices of public affairs operating within the Department's operating units; travel records, assignments, biographies, speaking engagements, interviews and communications of the Secretary and Department principals and members of the media; records relating to requests for access to Department facilities by members of the press; press releases; names of local media organizations; information on Department employees who asked the Department to publish information/articles about them; and invitations sent to the Secretary and Department principals to include the name/organization of the requester, internal control number, assigned action office and status. On-camera video and audio interviews and commentary, with names of participants, audio recordings from news conferences, image, audio and video legal releases, public affairs photography with caption information, historical journals, capstone emails, notes, transcripts, audio and video logs, graphic images, documentaries, podcasts, and dialogue regarding matters of public interest or scientific significance, textual-based materials (articles, newspaper files, letters, tweets, posts, etc.), and existing records not currently searchable that are to be digitized.

RECORD SOURCE CATEGORIES:

Submissions of images or media from the public and employee documentation of a public interest event obtained during of their official work, capstone email records that include final determinations, policies, and guidance pertaining to agency operations and other news-worthy documentation created or submitted to the agency. Also, these records contain information obtained directly from the individual who is the subject of these records, the agency or organization that the individual represents, published directories, and/or other operating units in the Department.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the Department as a routine use pursuant to 5 U.S.C. 552a(b)(3) as follows:

1. Media and the Public—A record in this system of records may be disclosed for distribution and presentation for news, public relations, official agency social media, community affairs purposes, with the approval of the Department's Chief Privacy Officer in consultation with counsel, when there exists a legitimate public interest in the disclosure of the information or when disclosure is necessary to preserve confidence in the integrity of the Department or is necessary to demonstrate the accountability of the Department's officers, employees, or individuals covered by the system; except to the extent the Department determines that release of the specific information in the context of a particular case would constitute an unwarranted invasion of personal privacy.

2. Audit Disclosure—A record from this system of records may be disclosed to an agency, organization, or individual for the purpose of performing an audit or oversight operation as authorized by law, but only such information as is necessary and relevant to such audit or oversight function to accomplish an agency function related to this system of records. Individuals provided information under this routine use are subject to the same Privacy Act requirements and limitations on disclosure as are applicable to the Department officers and employees.

3. Governments Disclosure—A record from this system of records may be disclosed to a Federal, state, local, tribal, or international agency, in response to its request, in connection with (1) the assignment, hiring, or retention of an individual, (2) the issuance of a security clearance, (3) the letting of a contract, or (4) the issuance of a license, grant, or other benefit by the requesting agency, to the extent that the information is relevant and necessary to the requesting agency's decision on the matter.

4. Record Informational Inquiries—A record in this system of records may be disclosed to a Federal, state, local, tribal, or international agency, maintaining civil, criminal, or other relevant enforcement information or other pertinent information, such as current licenses, if necessary to obtain information relevant to a Department decision concerning (1) the assignment, hiring, or retention of an individual, (2) the issuance of a security clearance, (3) the letting of a contract, or (4) the issuance of a license, grant, or other benefit.

5. Law Enforcement and Investigation—A record in this system of records may be disclosed to a Federal, state, local, tribal, or foreign agency or other appropriate entity where a record, either alone or in conjunction with other information, indicates a violation or potential violation of law, whether civil, criminal, or regulatory in nature, and whether arising by (1) general statute or particular program statute or contract, (2) rule, regulation, or order issued pursuant thereto, or (3) the necessity to protect an interest of the Department. The agency receiving the record(s) must be charged with the responsibility of investigating or prosecuting such violations or with enforcing or implementing the statute, rule, regulation, or order issued pursuant thereto, or protecting the interest of the Department.

6. Non-Federal Personnel—A record in this system of records may be disclosed to individuals, contractors, agents, grantees, experts, consultants, student volunteers, and other workers who technically do not have the status of Federal employees, performing or working on a contract, service, grant, cooperative agreement, or other work assignment for the Department or the Department of Commerce, to the extent needed to perform their assigned functions. These individuals or entities may have a need for information from the system of records: (1) in the course of operating or administrating the system of records; (2) in the course of fulfilling an agency function, but only to the extent necessary to fulfill that function; or (3) in order to fulfill their contract(s), but who do not operate the system of records within the meaning of 5 U.S.C. 552a(m).

7. Data Breach Notification—A record in this system of records may be disclosed to appropriate agencies, entities, and persons when (1) the Department suspects or has confirmed that there has been a breach of the system of records; (2) the Department has determined that as a result of the suspected or confirmed breach there is a risk of harm to individuals, Department (including its information systems, programs, and operations), the Federal Government, or national security; and (3) the disclosure made to such agencies, entities, and persons is reasonably necessary to assist in connection with the Department's efforts to respond to the suspected or confirmed breach or to prevent, minimize, or remedy such harm.

8. Data Breach Assistance—A record in this system of records may be disclosed to another Federal agency or Federal entity when the Department determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

9. Adjudication and Litigation—A record in this system of records may be disclosed to a court, magistrate, or administrative tribunal during the course of presenting evidence, including disclosures to opposing counsel or witnesses in the course of civil discovery, litigation, or settlement negotiations where use of such records by the court or the Department is deemed by the Department to be relevant and necessary to the litigation, provided, however, that in each case, the Department determines that disclosure of the records to the court is a use of the information contained in the records that is compatible with the purpose for which the records were collected.

10. Department of Justice Litigation—To the U.S. Department of Justice (DOJ), or in a proceeding before a court, adjudicative body, or other administrative body in which the Department is authorized to appear, when:

(1) The Department;

(2) Any employee of the Department in their official capacity; or

(3) Any employee of the Department in their individual capacity where the DOJ or the Department has agreed to represent the employee; or

(4) The United States, when the Department determines that litigation is likely to affect the Department;

is a party to litigation or has an interest in such litigation, and the use of such records by the DOJ or the Department is deemed by the Department to be relevant and necessary to the litigation, provided, however, that in each case, the Department determines that disclosure of the records to DOJ is a use of the information contained in the records that is compatible with the purpose for which the records were collected.

11. Freedom of Information Act Assistance From Department of Justice—A record in this system of records may be disclosed to the Department of Justice in connection with determining whether disclosure thereof is required by the Freedom of Information Act (5 U.S.C. 552).

12. Congressional Inquiries—A record in this system of records may be disclosed to a Member of Congress or staff acting upon the Member's behalf when the Member or staff requests the information on behalf of, and at the request of, the individual who is the subject of the record.

13. National Archives and Records Administration—A record in this system of records may be disclosed to the Administrator of the National Archives and Records Administration (NARA), or said administrator's designee, during an inspection of records conducted by NARA as part of that agency's responsibility to recommend improvements in records management practices and programs, under authority of 44 U.S.C. 2904 and 2906. Such disclosure shall be made in accordance with NARA regulations governing inspection of records for this purpose, and any other relevant directive. Such disclosure shall not be used to make determinations about individuals. A capstone email record may be disclosed to NARA that is created by individuals serving in specific level positions. These records will include final determinations, policies, and guidance pertaining to agency operations and strategic planning under the authority of 44 U.S.C. 2912 and M-23-07 Update to Transition to Electronic Records.

POLICIES AND PRACTICES FOR STORAGE OF RECORDS:

Automated storage includes but is not limited to digital audio and video media captured via webinar software, flatbed scanners, and digitization of older film or audio recordings stored on departmental computers and servers. Non-digitized images such as films, audio tapes, and other hardcopy images are maintained in file cabinets or locked storage rooms.

POLICIES AND PRACTICES FOR RETRIEVAL OF RECORDS:

Records may be retrieved alphabetically by last name and/or first name, cross referenced to file number, and by event or topic of newsworthiness.

POLICIES AND PRACTICES FOR RETENTION AND DISPOSAL OF RECORDS:

Records in the system are maintained in accordance with the NARA approved Records Controls Schedules 6.4 Item 010, Temporary. Destroy when 3 years old, or no longer needed, whichever is later; IN1-241-05-001:5; N1-241-06-002:4; N1-241-06-002:6; N1-241-10-001:10.3; and General Records Schedules 1.1 3.2 and 6.1.

ADMINISTRATIVE, TECHNICAL, AND PHYSICAL SAFEGUARDS:

Records are protected from unauthorized access and improper use through administrative, technical, and physical security measures.

Administrative Safeguards: Administrative controls include, but are not limited to, written policies, standards, and procedures reinforced by training and periodic auditing and the completion of a Privacy Threshold Analysis (PTA) and/or a Privacy Impact Assessment (PIA).

Physical Safeguards: Physical controls include, but are not limited to, the use of the Department Employee ID and/or badge number and Department key cards, security guards, cipher locks, biometrics, and closed-circuit TV.

Technical Safeguards: Technical controls include, but are not limited to user identification, password protection, firewalls, virtual private network, encryption, intrusion detection systems, common access cards, smart cards, biometrics, and public key infrastructure.

Alleged or Confirmed Incidents: The Department will report and take action to remediate security incidents involving the unauthorized access or disclosure of personally identifiable and sensitive information according to applicable law, regulations, OMB guidance, and Department of Commerce policies.

RECORD ACCESS PROCEDURES:

Individuals seeking to access records maintained in this system of records must submit an access request in accordance with the Department's Privacy Act implementing regulations in 15 CFR part 4, subpart B. The regulations define the procedures for making requests for records in person, not in person, and on behalf of a minor or by a legal guardian.

CONTESTING RECORD PROCEDURES:

Individuals contesting the content of records about themselves contained in this system of records must submit a request for correction or amendment in accordance with the Department's Privacy Act implementing regulations in 15 CFR part 4, subpart B. The regulations define the procedures for making requests for correction or amendment and include what should be submitted with the request.

NOTIFICATION PROCEDURES:

Individuals seeking to determine whether this system of records contains information about themselves must submit a request in accordance with the Department's Privacy Act implementation regulations in 15 CFR part 4, subpart B. The regulations define the procedures for making inquiries and what information should be submitted with the request.

EXEMPTIONS PROMULGATED FOR THE SYSTEM:

None.

HISTORY:

None.

Charles R. Cutshall,
Director of Open Government, Office of Privacy and Open Government, Department of Commerce.

[FR Doc. 2025-06227 Filed 4-11-25; 8:45 am]

BILLING CODE 3510-17-P